DEPARTMENT OF JUSTICE

Notice of Lodging of Consent Decree Pursuant to the Comprehensive Environmental Response, Compensation and Liability Act

Notice is hereby given that a proposed Consent Decree in United States v. American Home Products, Corp, et al., Civil Action No. C00-4173MWB, was lodged on December 8, 2000, with the United States District Court for the Northern District of Iowa.

In this action the United States sought to recover, pursuant to Section 107 of the Comprehensive Environmental Response, Compensation, and Liability Act (“CERCLA”), 42 U.S.C. 9607, response costs incurred and to be incurred by the U.S. Environmental Protection Agency (“EPA”) in response to the release of hazardous substances into the environment at or from the InterChem Superfund Site (hereinafter “the Site”) located in Alton, Iowa.

The proposed Consent Decree embodies an agreement with four potentially responsible parties (“PRPs”) pursuant to Section 107 of CERCLA, 42 U.S.C. 9607, to pay $212,400 in past response costs for EPA's unreimbursed oversight costs. The PRPs, American Home Products, Corp., American Cyanamid Company, Solvay America, Inc., and Salsbury Chemicals, Inc., are successors to Salsbury Laboratories, Inc. (“SLI”). SLI had sent raw pesticide ingredients including malathion, which is a hazardous substance, to the Site for formulation, which was then returned to SLI as finished pesticide products. A removal action at the Site to remove hazardous substances, including malathion, was undertaken by other PRPs with EPA oversight and was completed in 1996. The defendants are paying $212,400 which is proportionate to the costs incurred by the other PRPs who undertook the prior removal. This payment leaves EPA's outstanding unreimbursed response costs at less than $25,000, at a Site where the total response action expenditures, including expenditures by PRPs, were over $1.5 million.

The Department of Justice will receive, for a period of thirty (30) days from the date of this publication, comments relating to the proposed Consent Decree. Comments should be addressed to the Assistant Attorney General for the Environmental and Natural Resources Division, Department of Justice, P.O. Box 7611, Washington, DC 20044-7611, and should refer to United States v. American Home Products, Corp., et al., DOJ Ref. No. 90-11-3-06738.

The proposed Consent Decree may be examined at the Office of the United States Attorney, Northern District of Iowa, Hach Building, Suite 400, 401 1st Street, SE., Cedar Rapids, Iowa 52401, and the Region VII Office of the Environmental Protection Agency, Region VII Records Center, 901 N. 5th St., Kansas City, KS 66101. A copy of the proposed Consent Decree may be obtained by mail from the Consent Library, U.S. Department of Justice, Environmental Enforcement Section, Post Office Box 7611, Washington, DC 20044. In requesting a copy, please refer to the referenced case and enclose a check in the amount of $5.50 (25 cents per page reproduction costs), payable to the Consent Decree Library.

Bruce Gelber,
Chief, Environmental Enforcement Section Environment and Natural Resources Division.

[FR Doc. 00-33054 Filed 12-27-00; 8:45 am]

BILLING CODE 4410-15-M